INTERNATIONAL TRADE COMMISSION

Notice of Appointment of Individuals To Serve as Members of Performance Review Board

AGENCY: United States International Trade Commission.

ACTION: Appointment of Individuals to Serve as Members of Performance Review Board.

SUMMARY: The Chairman of the U.S. International Trade Commission has appointed the following individuals to serve on the Commission's Performance Review Board (PRB):

Chair of the PRB: Commissioner David S. Johanson

Vice-Chair of the PRB: Commissioner Dean A. Pinkert

Member—Dominic L. Bianchi

Member—Catherine DeFilippo

Member— William E. Dobryzkowski

Member —Robert B. Koopman

Member—Karen Laney

Member—Andrew Martin

Member—Margaret D. MacDonald

Member—Stephen A. McLaughlin

Member—Lyn M Schlitt

DATES: Effective Date: October 24, 2013.

FOR FURTHER INFORMATION CONTACT: Patricia Connelly, Director of Human Resources, U.S. International Trade Commission (202) 205-2651.

Authority: This notice is published in the Federal Register pursuant to the requirement of 5 U.S.C. 4314(c)(4).

Hearing impaired individuals are advised that information on this matter can be obtained by contacting our TDD terminal on (202) 205-1810.

Issued: October 24, 2013.
By order of the Chairman.
Lisa R. Barton,
Acting Secretary to the Commission.

[FR Doc. 2013-25567 Filed 10-28-13; 8:45 am]

BILLING CODE 7020-02-P